OFFICE OF PERSONNEL MANAGEMENT

Excepted Service; July 2022

AGENCY: Office of Personnel Management.

ACTION: Notice.

SUMMARY: This notice identifies Schedule A, B, and C appointing authorities applicable to a single agency that were established or revoked from July 1, 2022, to July 31, 2022.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

14. Department of Commerce (Sch A, 213.3114)

(l) National Telecommunication and Information Administration—

(1) Not to exceed 129 professional positions in grades GS-13 through GS-15.

Schedule B

14. Department of Commerce (Sch B, 213.3214)

(d) National Telecommunication and Information Administration—

(1) Not to exceed 37 positions of GS-0850 Electrical Engineer, GS-0855 Electronics Engineer, or GS-0854 Computer Engineer in grades GS-11 through GS-15, or positions that require subject-matter expertise with telecommunications policy, 911 communication programs, environmental specialists, and spectrum policy and related programs. Employment under this authority may not exceed 2 years.

Schedule C

The following Schedule C appointing authorities were approved during July 2022.

Agency name | Organization name | Position title | Authorization No. | Effective date
DEPARTMENT OF AGRICULTURE | Agricultural Marketing Service | Chief of Staff | DA220143 | 07/15/2022
| Farm Service Agency | State Executive Director—Utah | DA220139 | 07/05/2022
|  | State Executive Director—Louisiana | DA220140 | 07/05/2022
|  | State Executive Director | DA220142 | 07/15/2022
| Foreign Agricultural Service | Minister Counselor of Agriculture | DA220150 | 07/29/2022
| Office of Communications | Press Secretary | DA220149 | 07/21/2022
| Office of Rural Business Service | Policy Advisor | DA220141 | 07/15/2022
| Office of Rural Development | State Director—Texas | DA220135 | 07/05/2022
|  | State Director—Kansas | DA220138 | 07/05/2022
DEPARTMENT OF COMMERCE | Office of Economic Development Administration | Senior Advisor | DC220160 | 07/29/2022
| Office of International Trade Administration | Director of Outreach Senior Advisor | DC220156 DC220158 | 07/22/2022 07/29/2022
| Minority Business Development Agency | Director of Legislative Affairs | DC220129 | 07/01/2022
| Office of National Telecommunications and Information Administration | Deputy Director of Public Engagement Advisor for Intergovernmental Affairs | DC220147 DC220148 | 07/15/2022 07/15/2022
| Office of Legislative and Intergovernmental Affairs | Director of Legislative Affairs | DC220141 | 07/01/2022
| Office of Public Affairs | Deputy Press Secretary | DC220149 | 07/15/2022
| Office of the Chief of Staff | Special Assistant to the Deputy Chief of Staff | DC220159 | 07/29/2022
| Patent and Trademark Office | Senior Advisor | DC220161 | 07/29/2022
COMMISSION ON CIVIL RIGHTS | Office of Commissioners | Special Assistant to the Commissioner | CC220002 | 07/14/2022
DEPARTMENT OF DEFENSE | Office of the Assistant to the Secretary of Defense (Public Affairs) | Speechwriter | DD220162 | 07/14/2022
| Office of the Assistant Secretary of Defense (Legislative Affairs) | Special Assistant | DD220160 | 07/15/2022
| Office of the Secretary of Defense | Staff Assistant to the Deputy Secretary of Defense | DD220161 | 07/15/2022
DEPARTMENT OF EDUCATION | Office of the Secretary | Deputy White House Liaison | DB220066 | 07/01/2022
| Office of Communications and Outreach | Chief Speechwriter | DB220070 | 07/15/2022
DEPARTMENT OF ENERGY | Office of Manufacturing and Energy Supply Chains | Chief of Staff | DE220100 | 07/05/2022
| Office of Public Affairs | Deputy Director | DE220103 | 07/08/2022
| Office of Scheduling and Advance | Deputy Director for Scheduling and Advance | DE220099 | 07/05/2022
| Office of Science | Chief of Staff | DE220019 | 07/21/2022
ENIVIRONMENTAL PROTECTION AGENCY | Office of the Associate Administrator for Congressional and Intergovernmental Relations | Special Advisor for Intergovernmental Affairs | EP220065 | 07/11/2022
| Office of Public Engagement and Environmental Education | Public Engagement Specialist | EP220067 | 07/13/2022
| Office of the Administrator | Advance Specialist | EP220068 | 07/21/2022
GENERAL SERVICES ADMINISTRATION | Office of Strategic Communication Office of Congressional and Intergovernmental Affairs | Press Secretary Policy Advisor | GS220018 GS220019 | 07/26/2022 07/29/2022
DEPARTMENT OF HEALTH AND HUMAN SERVICES | Office of the Secretary | Deputy Director of Advance Senior Advisor | DH220125 DH220081 | 07/17/2022 07/28/2022
DEPARTMENT OF HOMELAND SECURITY | Office of Public Affairs Office of the Secretary | Social Media Director Writer-Editor White House Liaison | DM220240 DM220213 DM220248 | 07/28/2022 07/28/2022 07/28/2022
| Office of United States Citizenship and Immigration Services | Senior Advisor for Customer Experience | DM220249 | 07/28/2022
DEPARTMENT OF HOUSING AND URBAN DEVELOPMENT | Office of the Secretary | Deputy White House Liaison | DU220053 | 07/13/2022
DEPARTMENT OF THE INTERIOR | Office of United States Fish and Wildlife Service | Special Assistant to Director, Fish and Wildlife Service | DI220069 | 07/14/2022
| Secretary's Immediate Office | Special Assistant to the Senior Advisor and Infrastructure Coordinator | DI220074 | 07/14/2022
DEPARTMENT OF JUSTICE | Office of the Associate Attorney General | Senior Counsel | DJ220108 | 07/08/2022
| Office of Civil Rights Division | Senior Counsel | DJ220125 | 07/28/2022
DEPARTMENT OF LABOR | Office of the Secretary | Advance Associate Advisor for Infrastructure and Climate Engagement | DL220067 DL220064 | 07/01/2022 07/21/2022
OFFICE OF MANAGEMENT AND BUDGET | Office of Communications | Deputy Associate Director for Communications | BO220021 | 07/25/2022
UNITED STATES INTERNATIONAL DEVELOPMENT FINANCE CORPORATION | Overseas Private Investment Corporation | Confidential Assistant | PQ220006 | 07/29/2022
SECURITIES AND EXCHANGE COMMISSION | Office of the Chairman Office of Public Affairs | Confidential Assistant Digital Media Communication Specialist | SE220011 SE220012 | 07/15/2022 07/15/2022
SMALL BUSINESS ADMINISTRATION | Office of the Administrator | Senior Advisor | SB220032 | 07/26/2022
DEPARTMENT OF STATE | Bureau of International Narcotics and Law Enforcement Affairs | Supervisory Foreign Affairs Officer | DS220053 | 07/01/2022
| Bureau of Legislative Affairs | Senior Advisor (Congressional) | DS220059 | 07/25/2022
| Office of the Chief of Protocol | Protocol Officer (Visits) | DS220054 | 07/11/2022
| Office of the Under Secretary for Arms Control and International Security Affairs | Senior Advisor | DS220057 | 07/14/2022
DEPARTMENT OF TRANSPORTATION | Office of National Highway Traffic Safety Administration | Director of Communications | DT220093 | 07/14/2022
| Office of the Assistant Secretary for Governmental Affairs | Deputy Assistant Secretary for Congressional Affairs (House) | DT220096 | 07/14/2022
| Office of the Secretary | Deputy Director of Advance | DT220097 | 07/15/2022
| Office of Public Affairs | Digital Communications Manager | DT220098 | 07/28/2022
DEPARTMENT OF THE TREASURY | Office of the Under Secretary for Domestic Finance | Senior Advisor for Financial Institutions | DY220125 | 07/05/2022
| Office of the Assistant Secretary (Legislative Affairs) | Special Advisor Special Assistant | DY220126 DY220127 | 07/25/2022 07/25/2022
| Office of the Assistant Secretary (Economic Policy) | Senior Advisor for Russia/Ukraine | DY220133 | 07/25/2022

The following Schedule C appointing authorities were revoked during July 2022.

Agency name | Organization name | Position title | Request No. | Vacate date
COUNCIL ON ENVIRONMENTAL QUALITY | Council on Environmental Quality | Scheduler and Staff Assistant | EQ210003 | 07/23/2022
DEPARTMENT OF AGRICULTURE | Office of the Secretary | White House Liaison | DA210041 | 07/02/2022
|  | Advance Associate | DA220068 | 07/16/2022
DEPARTMENT OF COMMERCE | Office of Public Affairs | Deputy Speechwriter | DC220024 | 07/16/2022
| Office of the Chief Financial Officer and Assistant Secretary for Administration | Special Assistant | DC220084 | 07/16/2022
| Office of the Secretary | Special Assistant to the Secretary | DC220087 | 07/02/2022
DEPARTMENT OF EDUCATION | Office of Legislation and Congressional Affairs | Deputy Assistant Secretary | DB210138 | 07/01/2022
DEPARTMENT OF ENERGY | Office of Policy | Special Assistant | DE220061 | 07/30/2022
DEPARTMENT OF HEALTH AND HUMAN SERVICES | Office of Refugee Resettlement/Office of the Director | Special Assistant | DH220043 | 07/02/2022
| Office of the Assistant Secretary for Legislation | Special Assistant | DH210251 | 07/02/2022
| Office of the Assistant Secretary for Preparedness and Response | Senior Advisor | DH210212 | 07/30/2022
DEPARTMENT OF THE TREASURY | Office of the Assistant Secretary (Legislative Affairs) | Special Assistant Special Advisor | DY210086 DY220126 | 07/24/2022 07/29/2022
| Office of the Assistant Secretary (Public Affairs) | Spokesperson | DY210112 | 07/22/2022
| Secretary of the Treasury | Senior Advisor | DY210091 | 07/30/2022
DEPARTMENT OF TRANSPORTATION | Office of the Secretary | Special Assistant for Advance | DT210088 | 07/16/2022
GENERAL SERVICES ADMINISTRATION | Office of the Administrator | Director of Advance | GS210045 | 07/05/2022
OFFICE OF THE SECRETARY OF DEFENSE | Office of the Under Secretary of Defense (Research and Engineering) | Special Assistant | DD210253 | 07/02/2022
SECURITIES AND EXCHANGE COMMISSION | Office of Public Affairs | Communications Specialist | SE210024 | 07/16/2022
SMALL BUSINESS ADMINISTRATION | Office of Communications and Public Liaison | Director of Digital Communications | SB220028 | 07/01/2022
| Office of Congressional and Legislative Affairs | Legislative Policy Advisor Deputy Associate Administrator | SB210006 SB210035 | 07/30/2022 07/30/2022
| Office of the Administrator | Policy Advisor Special Advisor (2) | SB210033 SB210024 | 07/30/2022 07/30/2022
|  |  | SB210009 | 07/30/2022

Authority: 5 U.S.C. 3301 and 3302; E.O. 10577, 3 CFR, 1954-1958 Comp., p. 218.

Office of Personnel Management.
Kayyonne Marston,
Federal Register Liaison.

[FR Doc. 2023-13628 Filed 6-26-23; 8:45 am]

BILLING CODE 6325-39-P